DEPARTMENT OF THE INTERIOR

National Park Service

Route 66 Corridor Preservation Program Advisory Council Establishment

AGENCY: National Park Service, Interior.

ACTION: Notice of committee establishment.

SUMMARY: This notice is published in accordance with section 9(a) of the Federal Advisory Committee Act of 1972 (5 U.S.C. Appendix). Following consultation with the General Services Administration, notice is hereby given that the Secretary of the Interior has formally established the Route 66 Corridor Preservation Program Advisory Council to provide advice and recommendations on program guidance relating to Route 66 Corridor preservation. Public Law 106-45 (16 U.S.C. 461 note), August 10, 1999, authorizes the Secretary of the Interior, acting through the National Park Service, to provide a program of technical assistance and grants that will set priorities for the preservation of the Route 66 corridor, which passes through Illinois, Missouri, Kansas, Oklahoma, Texas, New Mexico, Arizona and California. Members of the committee represent states through which Route 66 passes, non-profit Route 66 preservation entities and other interested organizations.

FOR FURTHER INFORMATION CONTACT: Michael Taylor, National Park Service, Long Distance Trails Group Office—Santa Fe, PO Box 728, 1100 Old Santa Fe Trail, Santa Fe, NM 87504-0728; (505) 988-6742.

Dated: May 4, 2004.
Bernard C. Fagan,
Deputy Chief, Office of Policy, National Park Service.

[FR Doc. 04-11169 Filed 5-17-04; 8:45 am]

BILLING CODE 4312-52-P